DEPARTMENT OF HOMELAND SECURITY

Federal Emergency Management Agency

44 CFR Part 67

[Docket No. FEMA-B-7791]

Withdrawal of Final Flood Elevation Determination for the District of Columbia, Washington, DC

AGENCY: Federal Emergency Management Agency (FEMA), DHS.

ACTION: Final rule; withdrawal.

SUMMARY: The Federal Emergency Management Agency (FEMA) withdraws the final flood elevation determinations for the District of Columbia, published in the Federal Register on April 17, 2008, at 73 FR 20810, 20814-20815. Final flood elevation determinations will be made at a later date.

DATES: Effective Date: This rule is effective June 27, 2008.

FOR FURTHER INFORMATION CONTACT: William R. Blanton, Jr., Engineering Management Section, Mitigation Division, Federal Emergency Management Agency, 500 C Street, SW., Washington, DC 20472, (202) 646-3151.

SUPPLEMENTARY INFORMATION: On March 26, 2008, FEMA issued a letter to the District of Columbia (“the District”) finalizing that community's flood elevation determinations. The final flood elevation information was published in the Federal Register on April 17, 2008, at 73 FR 20810, 20814-20815. The March 26, 2008 letter also established September 26, 2008 as the anticipated effective date for the Flood Insurance Study (FIS) and Flood Insurance Rate Map (FIRM) for the District. Pending further consideration, the finalization of the above FIS and FIRM has been postponed. It is therefore necessary at this time to rescind the final flood elevation determinations issued to the District on March 26, 2008. Until FEMA determines that the District's FIRM can be processed, the community's final flood elevation determinations are hereby withdrawn in accordance with section 110 of the Flood Disaster Protection Act of 1973, codified at 42 U.S.C. 4104.

National Environmental Policy Act. This rule is categorically excluded from the requirements of 44 CFR part 10, Environmental Consideration. No environmental impact assessment has been prepared.

Regulatory Flexibility Act. As flood elevation determinations are not within the scope of the Regulatory Flexibility Act, 5 U.S.C. 601-612, a regulatory flexibility analysis is not required.

Regulatory Classification. This final rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended to withdraw the following:

The final flood elevation determination published at 73 FR 20810, 20814-20815, April 17, 2008 for the District of Columbia.

Dated: June 19, 2008.
Michael K. Buckley,
Deputy Assistant Administrator for Mitigation, Department of Homeland Security, Federal Emergency Management Agency.

[FR Doc. E8-14328 Filed 6-26-08; 8:45 am]

BILLING CODE 9110-12-P